ENVIRONMENTAL PROTECTION AGENCY

[OPP-2002-0122; FRL-7184-9]

Cancellation of Pesticides for Non-payment of Year 2002 Registration Maintenance Fees

AGENCY: Environmental Protection Agency (EPA).

ACTION: Notice.

SUMMARY: Since the amendments of October, 1988, the Federal Insecticide, Fungicide, and Rodenticide Act (FIFRA) has required payment of an annual maintenance fee to keep pesticide registrations in effect. The fee due last January 15 has gone unpaid for 914 registrations. Section 4(i)(5)(G) of FIFRA provides that the Administrator may cancel these registrations by order and without a hearing; orders to cancel all 914 of these registrations have been issued within the past few days.

FOR FURTHER INFORMATION CONTACT: For further information on the maintenance fee program in general, contact by mail: John Jamula, Office of Pesticide Programs (7504C), Environmental Protection Agency, 1200 Pennsylvania Avenue NW, Washington, DC 20460; telephone number: (703) 305-6426; e-mail address: jamula.john@epa.gov

SUPPLEMENTARY INFORMATION:

I. Important Information

A. Does This Apply to Me?

You may be potentially affected by this notice if you are an EPA registrant with any approved product registration(s). Although this action may be of particular interest to persons who produce or use pesticides, the Agency has not attempted to describe all the specific entities that may be affected by this action. If you have any questions regarding the information in this notice, consult the person listed in the FOR FURTHER INFORMATION CONTACT section.

B. How Can I Get Additional Information or Copies of Support Documents

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

The Agency has established an official record for this action under docket control number OPP-2002-0122. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Introduction

Section4(i)(5) of FIFRA as amended in October, 1988 (Public Law 100-532), December, 1991 (Public Law 102-237), and again in August, 1996 (Public Law 104-170), requires that all pesticide registrants pay an annual registration maintenance fee, due by January 15 of each year, to keep their registrations in effect. This requirement applies to all registrations granted under section 3 as well as those granted under section 24(c) to meet special local needs. Registrations for which the fee is not paid are subject to cancellation by order and without a hearing.

The Food, Agriculture, Conservation, and Trade Act Amendments of 1991, Public Law 102-237, amended FIFRA to allow the Administrator to reduce or waive maintenance fees for minor agricultural use pesticides when she determines that the fee would be likely to cause significant impact on the availability of the pesticide for the use. The Agency has waived the fee for 133 minor agricultural use registrations at the request of the registrants.

In late December, 2001, all holders of either section 3 registrations or section 24(c) registrations were sent lists of their active registrations, along with forms and instructions for responding. They were asked to identify which of their registrations they wished to maintain in effect, and to calculate and remit the appropriate maintenance fees. Most responses were received by the statutory deadline of January 15. A notice of intent to cancel was sent in mid-February to companies who did not respond and to companies who responded, but paid for less than all of their registrations.

Since mailing the notices, EPA has maintained a toll-free inquiry number through which the questions of affected registrants have been answered.

Maintenance fees have been paid for about 15,444 section 3 registrations, or about 95 percent of the registrations on file in December. Fees have been paid for about 2,204 section 24(c) registrations, or about 79 percent of the total on file in December. Cancellations for non-payment of the maintenance fee affect about 511 section 3 registrations and about 403 section 24(c) registrations.

The cancellation orders generally permit registrants to continue to sell and distribute existing stocks of the canceled products until January 15, 2003, one year after the date on which the fee was due. Existing stocks already in the hands of dealers or users, however, can generally be distributed, sold or used legally until they are exhausted. Existing stocks are defined as those stocks of a registered pesticide product which are currently in the U.S. and which have been packaged, labeled and released for shipment prior to the effective date of the action.

The exceptions to these general rules are cases where more stringent restrictions on sale, distribution, or use of the products have already been imposed, through Special Reviews or other Agency actions. These general provisions for disposition of stocks should serve in most cases to cushion the impact of these cancellations while the market adjusts.

III. Listing of Registrations Canceled for Non-payment

Table 1 lists all of the Section 24(c)registrations, and Table 2 Lists all of the Section 3 registrations which were canceled for non-payment of the 2002 maintenance fee. These registrations have been canceled by order and without hearing. Cancellation orders were sent to affected registrants via certified mail in the past several days. The Agency is unlikely to rescind cancellation of any particular registration unless the cancellation resulted from Agency error.

Table 1.—Section 24(c) Registrations Canceled for Non-Payment of Maintenance Fee
SLN no. | Product Name
009779 AL-80-0022 | Riverside 912 Herbicide
003125 AL-81-0026 | Sencor 4 Flowable Herbicide
038167 AL-91-0001 | Weed-Rhap A-4D
000279 AL-93-0005 | Command 4EC
000279 AL-94-0008 | Ammo 2.5 EC Insecticide
059639 AL-99-0001 | Select Herbicide
054555 AL-99-0002 | Dormex
000279 AR-01-0001 | Command Xtra Herbicide
000432 AR-81-0009 | SBP-1382 - 40 MF “Z” Oil Base Concentrate
000100 AR-88-0004 | D-Z-N Diazinon 50W Insecticide
000100 AR-88-0005 | D.Z.N. Diazinon AG 500
000432 AR-89-0007 | Permanone Multi-Purpose 10% E. C.
009779 AR-96-0007 | Riverside 912 Herbicide
010182 AZ-01-0004 | Cyclone Concentrate/Gramoxone Max
007173 AZ-77-0006 | Rozol Ground Squirrel Bait
010163 AZ-80-0010 | Gowan Dimethoate E267
034704 AZ-81-0001 | Dimethogon 267 EC
000400 AZ-81-0022 | Comite Agricultural Miticide
004581 AZ-87-0018 | Des-I-Cate
034704 AZ-88-0007 | Clean Crop Dimethoate 400
000432 AZ-88-0023 | Pyraperm 455 Dust
010182 AZ-91-0008 | Stauffer Eptam 7-E Granules
000241 AZ-92-0007 | Prowl 3.3 EC Herbicide
005905 AZ-93-0011 | 5LB Dimethoate Systemic Insecticide
010182 AZ-95-0002 | Eptam (r) 20. G Granules
009779 AZ-96-0001 | Dimate 4E
010182 AZ-98-0006 | Gramoxone Extra Herbicide
066196 AZ-98-0010 | Lime-Sulfur Solution
010163 AZ-99-0002 | Supracide 25WP
000275 CA-00-0009 | Pro-Gibb 4% Liquid Concentrate
059639 CA-00-0010 | Nylar Fire Ant Bait 26291
073554 CA-00-0012 | Clean Crop(r) Amine 4CA 2,4-D Weed Killer
000275 CA-00-0015 | Pro-Gibb 4% Liquid Concentrate
054555 CA-01-0005 | Dormex
002935 CA-76-0114 | Red-Top Strike Granular
000100 CA-78-0034 | D-Z-N Diazinon 50W
010182 CA-78-0075 | Ro-Neet 6e A Selective Herbicide Emulsifiable Liquid
002935 CA-78-0203 | Red Top Chlorate Concentrate
059639 CA-79-0219 | Volck Supreme Spray
052300 CA-83-0013 | Niagara Pyrenone Crop Spray Insecticide
059623 CA-85-0060 | Du Pont Karmex Weed Killer
000264 CA-86-0064 | Rovral Fungicide
063231 CA-86-0067 | Bacti-Chlor
059639 CA-87-0020 | Orthene 75 S Soluble Powder
010182 CA-87-0025 | Ambush Insecticide
037982 CA-89-0050 | Chlorine Gas
002935 CA-90-0018 | Wilbur-Ellis Sevin 5 Bait
065391 CA-91-0018 | Avid 0.15 EC
068132 CA-94-0020 | Pro-Gibb 4% Liquid Concentrate
063231 CA-94-0021 | Dithane WF Turf & Ornamental Fungicide
000100 CA-94-0033 | D-Z-N Diazinon 50W Insecticide
070165 CA-96-0018 | Metasystox-R Spray Concentrate
000432 CA-97-0018 | Chipco Ronstar 50 WSP Herbicide
005481 CA-97-0025 | Dibrom 8 Emulsive
000241 CA-98-0006 | Prowl 3.3 EC Herbicide
000241 CA-98-0009 | Prowl 3.3 EC Herbicide
071857 CA-98-0014 | Dylox 80 Turf and Ornamental Insecticide
000524 CA-98-0020 | MON-65005 Herbicide
010182 CA-98-0025 | Gramoxone Extra Herbicide
054555 CA-99-0001 | Dormex
010182 CA-99-0009 | Abound Flowable Fungicide
010163 CA-99-0023 | Savey Ovicide/miticide 50-WP
059639 CO-98-0002 | Dibrom 8 Emulsive
050534 CT-96-0003 | Bravo 720
050534 CT-96-0004 | Bravo 825
034704 DC-90-0001 | Sprout Nip Emulsifiable Concentrate
074156 DE-01-0001 | Sandea Herbicide
000432 DE-81-0001 | SBP-1382 - 40 MF “Z” Oil Base Concentrate
000279 DE-89-0001 | Command 4EC
000279 DE-90-0002 | Command 4EC
000279 DE-93-0002 | Command 4EC
000279 DE-96-0001 | Command 4EC Herbicide
010163 FL-00-0005 | Imidan 70-WP Agricultural Insecticide
000264 FL-00-0014 | Aliette WDG Fungicide
000279 FL-77-0039 | Niagara Ethion 4 Miscible Miticide Insecticide
000100 FL-78-0059 | Geigy Diazinon AG 500
000100 FL-78-0060 | D-Z-N Diazinon 50W
000432 FL-82-0045 | Chipco Ronstar G
004581 FL-87-0006 | Aquathol Granular
009779 FL-88-0009 | Farmbelt 455 Soluble Oil
000100 FL-89-0024 | D-Z-N Diazinon 50W Insecticide
000100 FL-89-0025 | D.Z.N. Diazinon AG 500
000432 FL-89-0043 | Permanone Multi-Purpose 10% E. C.
000100 FL-90-0002 | Pennant Liquid Herbicide
062719 FL-90-0005 | Lorsban 50W Wettable Powder
000400 FL-94-0008 | Micromite 25W
008536 FL-97-0006 | Methyl Bromide 98%
054555 FL-99-0011 | Dormex
000279 GA-00-0002 | Command 3ME Microencapsulated Herbicide
005905 GA-82-0001 | Dimethoate 267 EC
000100 GA-88-0007 | D-Z-N Diazinon 50W Insecticide
000100 GA-88-0008 | D.Z.N. Diazinon AG 500
000279 GA-93-0001 | Command 4EC
062719 GA-93-0003 | Lorsban 50W
062719 GA-93-0004 | Lorsban 50W Insecticide In Water Soluble Packets
000279 GA-96-0001 | Command 4EC Herbicide
054555 GA-99-0002 | Dormex
012455 HI-91-0004 | Diphacinone Concentrate
059639 HI-91-0007 | Volck Supreme Spray
000100 HI-91-0009 | Tilt 250 EC
061282 HI-96-0007 | Zinc Phosphide Oat Bait
000432 HI-97-0001 | Chipco Ronstar G Herbicide
037982 HI-98-0009 | Chlorine Gas
010182 ID-01-0008 | Cyclone Concentrate/Gramoxone Max
010182 ID-01-0009 | Cyclone Concentrate/Gramoxone Max
010182 ID-01-0010 | Cyclone Concentrate/Gramoxone Max
012455 ID-82-0025 | Ditrac Rat and Mouse Bait
009779 ID-90-0001 | Dimate 4E
007173 ID-92-0003 | Rozol Paraffinized Pellets
010182 ID-92-0010 | Gramoxone Extra Herbicide
010182 ID-93-0006 | Gramoxone Extra Herbicide
000264 ID-93-0014 | Rovral Fungicide
010163 ID-95-0001 | Metasystox-R Spray Concentrate
010163 ID-95-0002 | Metasystox-R Spray Concentrate
000100 ID-96-0010 | Supracide 25WP Insecticide-Miticide
010163 ID-97-0005 | Savey Ovicide/miticide 50-WP
009779 ID-97-0014 | Dimate 4E
003125 ID-99-0001 | Admire 2 Flowable
000524 ID-99-0021 | MON-65005 Herbicide
000524 ID-99-0022 | MON-65005 Herbicide
000279 IL-00-0003 | Command 3ME Microencapsulated Herbicide
000279 IL-00-0004 | Command 3ME Microencapsulated Herbicide
000279 IL-00-0005 | Command 4EC Herbicide
010182 IL-90-0003 | Ro-Neet 6-E
000279 IL-96-0002 | Command 4EC Herbicide
000279 IL-99-0005 | Command 3ME Microencapsulated Herbicide
004581 IN-96-0001 | Ziram 76DF Fungicide
000241 KS-00-0001 | Ac 263, 222 Herbicide
000279 KY-93-0002 | Command 4EC
000279 KY-96-0003 | Command 4EC Herbicide
003125 LA-00-0001 | Baythroid 2 Emulsifiable Pyrethroid Insecticide
000241 LA-01-0007 | Pursuit Herbicide
000100 LA-01-0015 | Cyclone Concentrate/Gramoxone Max
009779 LA-90-0013 | Riverside 912 Herbicide
009779 LA-90-0014 | Riverside 120 Herbicide
000279 LA-91-0021 | Pounce 3.2 EC Insecticide
004581 LA-94-0001 | Penncozeb 75DF Fungicide
000279 LA-94-0002 | Ammo 2.5 EC Insecticide
000352 LA-95-0016 | Dupont Lannate Insecticide
000352 LA-95-0017 | Dupont Lannate LV Insecticide
000241 LA-96-0002 | Scepter Herbicide
000241 LA-96-0003 | Scepter 70 DG Herbicide
000400 LA-96-0011 | Dimilin 25W for Cotton/Soybean
009779 LA-98-0006 | Riverside 912 Herbicide
054555 LA-99-0001 | Dormex
004816 MA-89-0001 | Larvin Brand 3.2 Thiodicarb Insecticide/Ovicide
050534 MA-90-0001 | Bravo 720
050534 MA-96-0001 | Bravo 825
000279 MD-88-0001 | Command 4EC
000100 ME-77-0001 | Geigy Diazinon AG 500
000100 ME-81-0003 | Geigy Diazinon AG 500
000279 ME-94-0004 | Command 4EC
050534 ME-95-0001 | Bravo 500
050534 ME-96-0002 | Bravo 720
050534 ME-96-0003 | Bravo 825
001812 MI-91-0005 | Granular Crystals Copper Sulfate
050534 MI-96-0001 | Bravo 720
004581 MI-96-0002 | Ziram 76DF Fungicide
000279 MI-96-0003 | Command 4EC Herbicide
000279 MI-96-0004 | Command 4EC Herbicide
000279 MI-96-0005 | Command 4EC Herbicide
050534 MI-96-0008 | Bravo 720
050534 MI-96-0009 | Bravo Zn
050534 MN-00-0002 | Bravo Weather Stik Zn
056576 MN-01-0001 | Copper Sulfate Crystals
042750 MN-01-0006 | MCPA Amine 4
072407 MN-01-0009 | Sulphuric Acid Desiccant
000279 MN-01-0010 | Aim Herbicide
050534 MN-96-0001 | Bravo 720
050534 MN-96-0002 | Bravo ZN
003125 MN-99-0006 | Admire 2 Flowable
000279 MN-99-0009 | Command 3ME Microencapsulated Herbicide
000279 MN-99-0010 | Command 3ME Microencapsulated Herbicide
050534 MO-77-0005 | Bueno-6
004643 MO-92-0006 | Dearcide 723
000279 MO-96-0003 | Command 4EC Herbicide
054555 MS-00-0002 | Dormex
007138 MS-01-0040 | 2,4-D Amine Type Weed Killer
000100 MS-88-0005 | D-Z-N Diazinon 50W Insecticide
000100 MS-88-0006 | D.Z.N. Diazinon AG 500
038167 MS-89-0019 | Liquid DSMA
038167 MS-89-0020 | Msma Arsonate Liquid
009779 MS-90-0007 | Mcpa Amine Herbicide
009779 MS-90-0008 | 2,4-D Amine 4
009779 MS-90-0029 | Riverside 912 Herbicide
009779 MS-90-0031 | Dsma 4
038167 MS-91-0002 | Weed-Rhap A-4D
000279 MS-93-0003 | Command 4EC
000279 MS-94-0004 | Ammo 2.5 EC Insecticide
009779 MS-96-0012 | Riverside 912 Herbicide
010163 MT-00-0002 | Supracide 25W
010182 MT-00-0006 | Gramoxone Extra Herbicide
000432 MT-89-0005 | Permanone Tick Repellent
010182 MT-94-0005 | Gramoxone Extra Herbicide
003125 MT-99-0001 | Admire 2 Flowable
000524 MT-99-0016 | MON-65005 Herbicide
000524 MT-99-0017 | MON-65005 Herbicide
000352 NC-89-0010 | Dupont Asana XL Insecticide
000279 NC-93-0002 | Command 4EC
010163 NC-95-0009 | Imidan 70-WSB/Imidan 70 - WP
010163 NC-98-0006 | Imidan 70-WSB
050534 NC-99-0003 | Bravo 825
050534 NC-99-0004 | Bravo 720
050534 ND-00-0003 | Bravo Weather Stik ZN
042750 ND-01-0006 | Glyphosate 41% Plus
003125 ND-93-0004 | Sencor 4 Flowable Herbicide
050534 ND-95-0003 | Bravo 720
050534 ND-95-0004 | Bravo ZN
000264 ND-96-0003 | Bugle Herbicide
003125 ND-99-0005 | Admire 2 Flowable
010182 ND-99-0011 | Bravo 720
000524 ND-99-0013 | MON-65005 Herbicide
000279 NE-01-0003 | Aim Herbicide
010707 NE-95-0002 | Magnacide H Herbicide
050534 NE-97-0004 | Bravo ZN
050534 NE-97-0005 | Bravo 825
003125 NJ-00-0003 | Admire 2 Flowable
000241 NJ-94-0004 | Abate 4E Insecticide
000241 NJ-94-0005 | Abate 5-G Insecticide
000279 NJ-95-0001 | Command 4EC Herbicide
000279 NJ-95-0002 | Command 4EC Herbicide
000352 NJ-95-0009 | Dupont Asana XL Insecticide
050534 NJ-96-0001 | Bravo 720
050534 NJ-96-0002 | Bravo 825
000279 NJ-96-0006 | Command 4EC Herbicide
050534 NJ-97-0002 | Bravo 825
050534 NJ-97-0003 | Bravo 720
000279 NJ-99-0003 | Command 4EC Herbicide
008329 NJ-99-0008 | Abate 5-G Insecticide
000279 NM-85-0006 | Pounce 3.2 EC Insecticide
012455 NM-89-0001 | Quintox Rat and Mouse Bait
010182 NM-94-0003 | Cyclone Herbicide
010182 NM-95-0003 | Cyclone Concentrate Herbicide
012455 NM-99-0005 | Quintox Rat and Mouse Bait
000432 NV-88-0004 | Pyraperm 455 Dust
010707 NV-93-0006 | Magnacide H Herbicide
005481 NV-94-0004 | Dibrom 8 Emulsive
010163 NV-97-0002 | Savey Ovicide/Miticide 50-WP
010163 NV-99-0010 | Supracide 25W
056576 NY-01-0001 | Copper Sulfate Crystals
001812 NY-94-0005 | Medium Crystals Copper Sulfate
001812 NY-96-0002 | Tennessee Brand Copper Sulfate Crystal
004581 NY-98-0001 | Aquathol Granular Aquatic Herbicide
000100 NY-99-0004 | Vangard WG Fungicide
000279 OH-00-0001 | Command 3ME Microencapsulated Herbicide
000279 OH-00-0002 | Command 3ME Microencapsulated Herbicide
000279 OH-00-0003 | Command 3ME Microencapsulated Herbicide
000279 OH-01-0001 | Aim Herbicide
000279 OH-93-0004 | Command 4EC
010163 OH-94-0006 | Metasystox-R Spray Concentrate
004581 OH-96-0004 | Ziram 76DF Fungicide
059639 OH-97-0006 | Orthene Turf, Tree, & Ornamental Spray
000432 OK-82-0006 | Permanone Tick Repellent
009779 OK-85-0005 | Riverside Atraside 4l
009779 OK-85-0006 | Riverside Atrazine 90 Dry Flowable
059639 OK-89-0005 | Orthene 75 S Soluble Powder
060063 OK-92-0005 | Oxon Italia Atrazine 90 Herbicide
060063 OK-92-0006 | IDA, Inc. Atrazine 4L Herbicide
010182 OK-94-0004 | Cyclone Herbicide
010182 OK-95-0004 | Cyclone Concentrate Herbicide
010163 OR-00-0011 | Savey 2E
010182 OR-00-0027 | Diquat Herbicide
000241 OR-00-0031 | Raptor Herbicide
010182 OR-01-0010 | Cyclone Concentrate/Gramoxone Max
010182 OR-01-0012 | Cyclone Concentrate/Gramoxone Max
007173 OR-78-0018 | Rozol Rodenticide Ground Spray Concentrate
003125 OR-78-0024 | Mesurol 50% Hopper - Box Treater
002935 OR-81-0073 | Wilbur-Ellis Malathion 8 Spray
012455 OR-85-0038 | Ditrac Rat and Mouse Bait
000432 OR-87-0016 | Acclaim 1 EC Herbicide
002935 OR-90-0003 | Dupont Karmex DF Herbicide
010163 OR-90-0017 | Gowan Diazinon 14G
034704 OR-91-0012 | Sprout Nip Emulsifiable Concentrate
002792 OR-91-0021 | Deccoquin 305 Concentrate
000241 OR-93-0002 | Prowl 3.3 EC Herbicide
010182 OR-93-0009 | Gramoxone Extra Herbicide
051161 OR-93-0013 | Orthene 75 S Soluble Powder
067752 OR-93-0014 | Orthene 75 S Soluble Powder
010182 OR-93-0019 | Gramoxone Extra Herbicide
000264 OR-94-0014 | Dodine 65W
010163 OR-94-0052 | Metasystox-R Spray Concentrate
010163 OR-94-0054 | Metasystox-R Spray Concentrate
000279 OR-96-0020 | Command 4EC Herbicide
000432 OR-96-0022 | Acclaim 1 EC Herbicide
010163 OR-97-0013 | Savey Ovicide/miticide 50-WP
010182 OR-98-0009 | Quadris Fungicide
071795 OR-98-0018 | Clorox
050534 OR-99-0013 | Bravo 825
050534 OR-99-0014 | Bravo 825
000241 OR-99-0016 | Raptor Herbicide
050534 OR-99-0019 | Bravo 720
050534 OR-99-0020 | Bravo 720
050534 OR-99-0021 | Bravo 720
050534 OR-99-0025 | Bravo 825
050534 OR-99-0026 | Bravo 720
000524 OR-99-0047 | MON-65005 Herbicide
000524 OR-99-0048 | MON-65005 Herbicide
010163 OR-99-0053 | Supracide 25W
000279 PA-89-0005 | Command 4EC
000279 PA-93-0001 | Command 4EC
000400 PA-95-0009 | Dimilin 4L for Use on Forests
004581 PA-96-0003 | Ziram 76DF Fungicide
000279 PA-98-0002 | Command 4EC Herbicide
000100 PR-93-0001 | Tilt 250 EC
011649 PR-96-0002 | Avitrol Powder Mix
073545 SC-79-0033 | Topsin-M 70 W
000279 SC-93-0002 | Command 4EC
000279 SC-95-0008 | Ammo 2.5 EC Insecticide
059639 SC-98-0005 | Select Herbicide
054555 SC-99-0001 | Dormex
010163 SC-99-0005 | Imidan 70-WP Agricultural Insecticide
000264 SC-99-0007 | Hoelon 3EC Herbicide
050534 SD-00-0006 | Bravo Weather Stik ZN
050534 SD-00-0008 | Bravo ZN
000279 SD-01-0004 | Aim Herbicide
010182 SD-99-0003 | Bravo 720
003125 TN-89-0007 | Monitor 4
000279 TN-93-0009 | Command 4EC
054555 TX-00-0001 | Dormex
003125 TX-00-0010 | Admire 2 Flowable
010182 TX-01-0004 | Cyclone Concentrate/Gramoxone Max
004581 TX-78-0045 | Aquathol Granular
000100 TX-83-0016 | D.Z.N. Diazinon AG 500
000352 TX-88-0007 | Dupont Asana XL Insecticide
060063 TX-92-0001 | Oxon Italia Atrazine 90 Herbicide
060063 TX-92-0002 | Ida, Inc. Atrazine 4L Herbicide
009779 TX-94-0014 | Terranil 6l
010182 TX-96-0008 | Gramoxone Extra Herbicide
004581 TX-99-0003 | Aquathol Granular Aquatic Herbicide
000279 UT-00-0008 | Capture 2 EC Insecticide/Miticide
000279 UT-00-0009 | Furadan 4F Insecticide/Nematicide
000432 UT-01-0001 | Permanone Insecticide Concentrate.
000432 UT-01-0002 | Aqua-Permanone
007173 UT-77-0001 | Rozol Paraffinized Pellets
007173 UT-78-0006 | Rozol Rodenticide Ground Spray Concentrate
009779 UT-93-0001 | Dimate 4E
010707 UT-93-0004 | Magnacide H Herbicide
010182 UT-96-0003 | Gramoxone Extra Herbicide
000279 UT-96-0005 | Capture 2 EC Insecticide/Miticide
000279 VA-00-0001 | Command 4EC Herbicide
000279 VA-89-0001 | Command 4EC
000279 VA-89-0002 | Command 4EC
000279 VA-93-0003 | Command 4EC
000279 VA-93-0004 | Command 4EC
000279 VA-93-0009 | Command 4EC
063569 VA-94-0011 | Epco-Tek 2000
000279 VA-96-0004 | Command 4EC Herbicide
000279 VA-96-0006 | Command 4EC Herbicide
056576 VT-01-0001 | Copper Sulfate Crystals
000100 VT-90-0001 | D.Z.N. Diazinon AG 500
001812 VT-94-0002 | Granular Crystals Copper Sulfate
050534 VT-96-0001 | Bravo 720
050534 WA-00-0013 | Daconil SDG
050534 WA-00-0025 | Bravo 720
050534 WA-00-0026 | Bravo 825_Agricultural Fungicide
010182 WA-00-0032 | Gramoxone Extra Herbicide
010182 WA-01-0008 | Cyclone Concentrate/Gramoxone Max
010182 WA-01-0012 | Cyclone Concentrate/Gramoxone Max
007173 WA-78-0060 | Rozol Rodenticide Ground Spray Concentrate
010707 WA-87-0018 | Magnacide H Herbicide
009779 WA-87-0022 | Dimethoate 4E
009779 WA-88-0014 | Riverside Dimate 2.67
005481 WA-89-0019 | Dibrom 8 Emulsive
009779 WA-92-0005 | Phorate 20-G
010182 WA-93-0014 | Gramoxone Extra Herbicide
010163 WA-95-0005 | Metasystox-R Spray Concentrate
002792 WA-95-0039 | Deccoquin 305 Concentrate
069880 WA-96-0011 | Ro-Neet 6-E Selective Herbicide
000279 WA-96-0016 | Command 4EC Herbicide
050534 WA-96-0029 | Bravo 720
034704 WA-96-0036 | Clean Crop Trifluralin 4EC
009779 WA-97-0019 | Dimate 4E
010163 WA-97-0020 | Savey Ovicide/miticide 50-WP
009779 WA-97-0031 | Dimate 4E
050534 WA-99-0007 | Bravo 720
050534 WA-99-0008 | Bravo 825
010182 WA-99-0016 | Abound Flowable Fungicide
000524 WA-99-0029 | MON-65005 Herbicide
010163 WA-99-0030 | Supracide 25W
000524 WA-99-0031 | MON-65005 Herbicide
050534 WI-00-0001 | Bravo 720
050534 WI-00-0004 | Bravo Weather Stik ZN
000279 WI-01-0002 | Command 4EC Herbicide
066222 WI-01-0003 | Galigan 2E
009779 WI-91-0006 | Phorate 20-G
000279 WI-92-0006 | Command 4EC
000279 WI-96-0002 | Command 4EC Herbicide
050534 WI-96-0003 | Bravo 720
050534 WI-96-0004 | Bravo ZN
000279 WI-97-0001 | Command 4EC Herbicide
000279 WI-99-0006 | Command 4EC Herbicide
003125 WI-99-0010 | Admire 2 Flowable
007173 WV-77-0003 | Rodenticide Ground Spray Concentrate
012455 WV-82-0005 | Ditrac Rat and Mouse Bait
003125 WV-93-0002 | Tempo 2 Ornamental Insecticide
010182 WY-00-0001 | Gramoxone Extra Herbicide
010163 WY-00-0002 | Supracide 25W
010163 WY-00-0004 | Savey Ovicide/Miticide 50-WP
000432 WY-01-0002 | Aqua-Permanone
010707 WY-93-0003 | Magnacide H Herbicide
003125 WY-95-0003 | Sencor Df 75% Dry Flowable Herbicide
010163 WY-97-0002 | Gowan Endosulfan 3EC
059639 WY-98-0004 | Dibrom 8 Emulsive

The following Table 2 lists all of the section 3 registrations which were canceled for non-payment of the 2002 maintenance fees.

Table 2.—Section 3 Registrations Canceled for Non-Payment of Maintenance Fee
Registration no. | Product Name
000052-00208 | Germ Warfare Concentrated Detergent Germicide
000087-00009 | Penngas Sterilizing Gas
000087-00011 | Penngas 2
000100-00928 | Bicep Magnum TR Herbicide
000100-00956 | Prosulfuron + Atrazine Herbicide
000100-01094 | Dynasty Herbicide
000106-00078 | Broadspec 128
000193-00004 | Wonder Bleach
000193-00016 | Wonder Chlor
000193-00017 | Jewel Bleach
000193-00018 | Wonder Fresh Scent Bleach
000264-00630 | Folistar 50WP
000270-00320 | Bendiocarb 2.5 Insecticide Granules
000275-00078 | Receptal Saf-Gard Liner System with Germicide
000279-03222 | Methyl Parathion 2 Thiodan 3 EC
000283-00004 | Neo Solu-Styril No. 5 Aqueous Germicidal Solution
000303-00063 | Huntington Hi-Sine
000303-00108 | H6-29l Sanitizer-Cleaner
000303-00116 | Hunto-Pine
000303-00219 | Firing Squad UlV Spray Insecticide
000303-00222 | TOR II
000322-00007 | Fort Brand Gopher Bait
000323-00025 | N-Dit Concentrate
000323-00056 | N-Dit 3
000323-00064 | Holcomb Surface Cleaner and Disinfectant
000334-00566 | Hytime Metered Aerosol Insecticide
000334-00567 | HBII Wasp &Hornet Killer
000335-00178 | Chlorine
000432-00547 | Crossfire SBP-1382 3% Multipurpose Spray
000432-00554 | Pramex Insecticide Emulsifiable Concentrate 13.3% Formu
000432-00711 | Perimeter 57% MF
000432-00731 | Dethmor Manufacturing - Use Product
000432-00815 | Talex Manufacturing Use Product
000432-00902 | Lawn Fungicide Granules
000432-00908 | Ford's 50% Malathion Emulsifiable Concentrate
000432-00909 | Ford's Malathion 57%
000432-00922 | Ford's Pyricide Horse Spray
000432-00944 | Ficam ULV Solution
000432-00970 | Pyretox No. 100 D Insecticide
000432-00990 | Pyrenone Grain Protectant
000432-01037 | Pyrenone Flexi-Dust
000432-01049 | Dairy Spray Concentrate
000432-01066 | A-PB Food Plant Fogging Spray
000432-01075 | Alleviate Equine Insecticide E.C.
000432-01109 | Perma-Vape
000432-01126 | Secure Insecticide
000432-01131 | Turbocide Pest Control System with DDVP
000432-01206 | GA6 - Weed &Grass Killer Ready-To-Use
000491-00217 | Super Se-Fly-Go
000491-00263 | DRB-SP
000498-00087 | Chase-Mm Patio Patrol Outdoor Insect Fogger
000498-00144 | Spray Pak Flying and Crawling Insect Killer Formula 2
000506-00184 | TAT Residual Roach &Ant Killer
000524-00124 | Avadex BW Selective Herbicide
000524-00291 | Granular Avadex BW Herbicide
000538-00087 | Scotts Turf Builder with Halts
000538-00128 | Scotts Vegetable Garden Weed Preventer
000538-00235 | Flower and Garden Weed Preventer
000541-00168 | Galahad Neutral Detergent-Germicide Hospital Grade
000541-00265 | Puritan #6790 Detergent-Germicide
000550-00193 | Liquichlor 10.0%
000550-00196 | Vanchlor Sanitizer 5.25%
000550-20001 | Liquichlor 12 1/2%
000655-00019 | Prentox Warfarin Concentrate Rax Powder
000655-00457 | Prentox Diazinon 4E Insecticide
000655-00519 | Prentox Liquid Household Spray #1
000662-00073 | GDA 50
000662-00074 | Sepacide 25
000662-00075 | Protectol GA 50
000675-00046 | New O-Syl Disinfectant - Detergent
000773-00046 | K.F.L. Insecticide-Shampoo
000773-00052 | Weladol Disinfectant
000773-00058 | Expar 3.2% EC
000773-00061 | Expar Cream Rinse for Dogs and Cats
000773-00064 | Ectiban Wp Insecticide
000833-00071 | Vigilquat
000862-00027 | Sunspray 8B
000862-00030 | Sunspray 12N
000961-00343 | Lebanon Granular 1.5% Oftanol Insecticide
000961-00351 | Lebanon Lawn Food with Oftanol Insect Control
001015-00034 | Douglas HI-PO “22” Ready To Use Fortified Multi-Purpose
001015-00071 | Vaporooter
001317-00074 | Fly Du
001317-00080 | Du-Clor Swimming Pool Chlorine
001327-00038 | Fulex Dithio Insecticidal Smoke
001459-00075 | Wintermint Disinfectant, Cleaner, Deodorant
001475-00030 | ENOZ Delicately Scented Bouquet-Aire Hang-Up Cakes
001475-00090 | ENOZ Cedar Tree
001475-00142 | Moth-Tek Paper Covered Moth Ball Hangers
001475-00148 | Bacta Clean Sanitizer Tablets
001475-00149 | Paradise Cedar Scented Cedar Block
001475-00152 | Click Moth Balls
001475-00153 | Click 4 Moth &Mildew Discs
001475-00154 | Click Solid Air Deodorizer and Bacteriostat for Urinal
001475-00155 | Click Para Nuggets
001574-00031 | First Mate Disinfectant Cleaner
001574-00034 | Enda-Bug Insecticide III.
001677-00131 | KX-6034-A
001677-00137 | Sta-Chlor
001677-00147 | BK LFI Germicide-Sanitizer
001677-00165 | Enviro San II
001677-00168 | Monarch Low-Foam Iodophor Germicidal Detergent
001677-00171 | Monoklor Liquid
001677-00172 | Advantage
001677-00173 | Monarch CL-14
001677-00174 | Monarch Bac'cide
001677-00175 | CLX
001677-00176 | SANEZE
001677-00178 | Monarch Iodine Concentrate
001677-00179 | Phos-Enquat
001677-00180 | Enquat
001677-00181 | Monarch - Ful- Chlor
001677-00182 | Monoklor
001677-00184 | KX-6078
001706-00042 | Nalcon 248
001706-00180 | Nalcon 7638
001706-00203 | Tektamer 38 O.F.
001706-00204 | Calgon PB-15l Papermill Slimicide
001706-00210 | H-3130 M Municipal Water Treatment
002011-00007 | Vigortone Bovotone FC “008” with Rabon Oral Larvicide
002382-00123 | Ecto-Soothe Permethrin Shampoo for Dogs
002382-00139 | Amitraz Tick Collar for Dogs
002382-00140 | Permethrin-IGR #2 Flea and Tick Spray for Dogs
002382-00153 | Knockout Room and Area Fogger #1
002382-00154 | Flypel II
002382-00168 | Diazion-Pyriproxyfen Collar for Dogs and Puppies #1
002382-00171 | Diazion-Pyriproxyfen Collar for Dogs and Puppies #3
002382-00172 | Diazion-Pyriproxyfen Collar for Dogs and Puppies #2
002439-20003 | Sodium Hypochlorite Solution
002568-00092 | Coastal Super Service Anti-Fouling 59-R-7 Red
002568-00097 | Vinyl Anti-Fouling V59R25 Red
002568-00098 | Sea Prince Antifouling Red 60a3000 Red
002792-00041 | Pennwalt Decco 273 Aerosol Potato Sprout Inhibitor
002881-00068 | Miraquat II
003008-00053 | ADZ-Pad
003095-00061 | Pic Room Fogger III
003134-00028 | Evsco Theradex A Shampoo for Veterinary Use Only
003240-00009 | Technical Grade Pival
003240-00010 | Technical Grade Pivalyn
003573-00059 | Cleaning Magic I
003862-00002 | Insecticide No. 111
003862-00047 | Malathion-50 Spray
003862-00049 | LEM-O-DIS 27-42
003862-00051 | O-DIS 27-42
003862-00065 | Bromokil 2.0 Weed Killer
003862-00074 | Lemon 7
003862-00079 | Insect Death Mist
003862-00081 | Destroyer
003862-00084 | Easy Does It
003862-00090 | Quick Kill Ready To Use Weed Killer
003862-00094 | ABC Neutral Disinfectant
003862-00098 | Chemscope Insecticide 150
003862-00113 | Insect 3000
003862-00114 | Dog Shampoo
003862-00118 | Di-Elec Wasp &Hornet Spray
003862-00120 | Acid Disenfectant Bowl Cleaner
004000-00069 | Emulsol Disinfectant Bowl Cleaner
004170-00084 | Bac Gard
004787-00024 | Malathion Technical
004925-00003 | Special King Mosquito Repellent Coil
004972-00063 | Protexall Lice Killer (Alternate Formula)
005011-00004 | Formula F-5
005011-00071 | Formula MU-17
005202-00006 | Agri-Fresh
005202-00017 | Britex 360 F Apple Wax.
005481-00284 | Thuricide HP-90M Dust
005481-00293 | Royal Brand Thuricide Hp Cornmeal Bait
005481-00302 | Royal Brand Dipel 150 Dust
005481-00303 | Royal Brand Dipel 150 Cornmeal Bait
005481-00304 | Royal Brand Dipel 110 Dust
005481-00313 | 5% Rotenone Fish Toxicant
005535-00074 | Gro-Well No-Gro Weed and Grass Killer
005568-00185 | Sodium Hypochlorite Solution
005602-00097 | Di-Tox E
005602-00151 | Di-Tox Plus
005602-00178 | Virchem Seventy-Six Insecticide
005602-00201 | Hub States Corporation/V-73
006035-00047 | Vinco Formaldehyde Solution
006175-00020 | Flea Sheen II Shampoo
006175-00024 | Flea Sheen Concentrate
006175-00032 | Aqua-Kill Forte
006175-00033 | Aqua-Kill Flea &Tick Spray
006175-00045 | Horse Spray &Rub
006175-00061 | Ami Flea &Tick Spray #1
006175-00062 | Ami Flea and Tick Dip for Dogs #2
006175-00065 | Defend Insecticide for Dogs
006325-00016 | Yellow Jacket Fluid Sulfur 70 Sd
006325-00018 | Yellow Jacket Sulfur 80 Df
006390-00009 | Vikol RG
006409-00014 | Professional Do It Yourself Exterminator's Kit Formula
006718-00020 | Quick Killing Bug Spray
006718-00021 | Amway Fast-Acting Bowl Cleaner II
007001-00344 | Sodium Chlorate 5lb Concentrate
007001-00373 | Sochlor 6
007405-00034 | Chemi-Cap Bamboo Air Sanitizer
007501-00098 | Gustafson 2% Reldan Dust Insecticide
007616-00004 | Shock
007809-00004 | Dial-A-Therm Germicide
008119-00010 | Deadline Force, Meal
008176-00024 | Hvc 5.25% Sodium Hypochlorite
008176-20001 | Hi-Test Sodium Hypochlorite
008176-20005 | Premier No. 144 Microbiocide
008329-00058 | Abate 2-CG Insecticide
008329-00059 | Abate 5-G Insecticide
008540-00015 | Garratt-Callahan Formula 34-A
008591-00045 | Stabrex St30
008591-00046 | N-136b
008616-00007 | Iodex
008660-00053 | 25% Lindane Wettable Powder
008660-00085 | Green Up Kerb 50w
008660-00129 | Pursell Metam Sodium
008764-00009 | Freshgard 20
008842-00004 | Pynamin Forte 120 Mosquito and Fly Vape Mat
008873-20004 | Kleen Brite Bleach
009198-00160 | The Anderson's 7.5% Chloroneb Turf Fungicide
009386-00025 | DMTT-24
009488-00001 | Chlorine Liquefied (under Pressure)
009488-20002 | Sodium Hypochlorite Solution
009591-00166 | Insecticide 110
009616-00009 | Vertex Css-10
009634-00002 | Clorosol Chlorinating Solution
009688-00118 | Chemsico Granules Formula B
009779-00362 | Riverside Methyl Parathion 4
009852-00070 | No-Chlor Wasp and Hornet Killer
010107-00010 | Micro - Gro Cythion Premium Grade Malathion E-5
010107-00036 | 6% Malathion Grain Protector
010145-00007 | Vita-San WS
010352-00047 | Stabilene Fly Repellent
010404-00010 | Lesco Thiram 75W
010404-00092 | Agway Lawn Shield Crabgrass Killer with Tupersan
010631-00002 | Angel City House Plant Insect Spray
010634-00002 | Alpha San 100
010634-00003 | Alpha San 200
010951-00012 | Britz Wettable or Dusting Sulfur
011204-00003 | Greenall Pro-Formula Weed Control and Lawn Fertilizer 2
011364-00005 | Angus Hot Rod
011399-00001 | Quaternary Germicidal Cleaner UL-709
011399-00003 | UL-530 Heavy Duty Cleaner and Disinfectant
011525-00014 | Bathroom Cleaner
011525-00074 | P/P Disinfectant, Degreaser and Cleaner
011529-00002 | BAF-10
011556-00058 | Fleatol Shampoo
011773-00018 | De-Bug-1 Bait for Grasshoppers
013208-20001 | White House Pool Chlorine
013648-00009 | Glidclean 80/60 Pine Oil Disinfectant
013648-00020 | Glidclean 20/80 20% Pine Type Disinfectant
013926-00006 | Diaciclon F-5
017705-00002 | Pathmark Fresh Scent Bleach
018184-00007 | Sultan Germicide
019713-00118 | Methoxychlor 4L Insecticide
026884-00001 | Bonco Algaecide-Slimicide No. 15
028293-00256 | Dursban Roach &Ant Bait
028293-00266 | Dursban Plus Resmethrin Concentrate
030574-00007 | Tri-Tox 55% Tablets
030574-00008 | Tri-Tox 55% Pellets
032802-00023 | Stop Grub Plus W/ 20-3-5 Fertilizer
032802-00025 | Stop Grub Insecticide Granules
032802-00032 | Systemic Rose &Flower Care
033560-00044 | Staa - Free 2 + 2 Granular Weed Killer
033753-00001 | Myacide Pharma BP
033753-00011 | Myacide Bt
033753-00019 | Myacide Bt30
033753-00024 | Myacide GDA
033912-00001 | Wagnol 40 Pest Control Spray Concentrate contains Diazi
034277-00001 | Chlorine
034277-00002 | Sodium Hypochlorite Solution
034750-20004 | Sodium Hypochlorite 5
034871-00005 | Chemicide 965
035512-00041 | Weed &Feed “s” 32-3-8
035512-00042 | Weed &Feed for St. Augustine Grass
035896-00004 | Basic Copper TS-53
035896-00007 | Copper Pride
035896-00009 | Basic Copper Sulfate
036029-00015 | Milo Bait for Pocket Gophers
036272-00020 | Mystic Flea Spray
036488-00037 | Ringer (Safer) Wasp &Hornet Attack RTU.
037655-00003 | Tropi-Clear Slow Dissolving 3″ Wrapped Tabs
037655-00004 | Tropi-Clear Black Algae Destroyer
037831-00009 | Cu2o Antifouling Marine Paint FR-4800
037910-00002 | Hi-Lite 60P
037910-00003 | Hi-Lite 90p Powder
038110-00008 | Green Grass M-14 with Rabon Oral Larvicide
038797-00001 | Nu-Clear Pool Chlorination Solution
039039-00005 | Dryzon Wp Livestock Premise &Sheep Insecticide
039260-00001 | M-44 Cyanide Capsules
039444-00007 | Micropur Mt 5
040572-00001 | Carrollchlor
040800-20001 | Sodium Hypochlorite Solution
040841-00003 | Microbiocide W-15
041014-00003 | Marlate Garden Insecticide 5% Dust
041014-00012 | Marlate 70% Methoxychlor Dust Base
041134-00004 | Tica Granular
041134-00005 | SDIC Granular
041391-00001 | Sanitizer
042273-00001 | Mercury Exterior-Ready Mixed Penetrating Oil Stain
042506-00004 | Pine Fresh Household Cleaner
042697-00006 | Safer Flea Soap for Cats and Dogs
042697-00040 | Safer Brand Ant, Roach &Spider Killer I
042697-00051 | Safer Brand Weed-Away Lawn Weed Killer Ready To Use
042697-00052 | Safer Brand Weed-Away Lawn Weed Killer Concentrate
042697-00053 | EH 1357 Herbicide
042697-00054 | Delta S Rtu Insecticide
042697-00056 | Ant Killer Granules
042697-00057 | Deltamethrin Insect Control Dust
042964-00003 | Entacide
043410-00027 | ACI Sanitizer 405-R
043521-00003 | Super Swim Brite 62
043602-00017 | Kleer Tower X300 Cooling Tower Algaecide
043843-00003 | Chlorine Liquified Gas Under Pressure
044446-00011 | Quik-Kill Fly &Mosquito Spray
044446-00063 | Remote Total Release Fogger
044786-00001 | ABL 16
045600-00011 | Insecta Perimeter Spray
045973-00001 | Al-Chlor 150
045987-00006 | Rodspray Mosquito Larvicide
046196-00001 | Roach and Ant Killer
046579-00005 | Pyra - Fog 3 Contact and Space Spray
046830-00001 | Palene 586B
048273-00013 | Pestban 2E
048273-00019 | Pestban 4E
048301-00016 | Bodoxin
049407-00001 | Rescue! Dog &Cat Repellent
049517-00002 | Poly-Foliant III Defoliant-Dessicant
049668-00007 | Redball Lightning Degradable Sulfur
049720-00001 | Sccchlor Liquefied Chlorine
050039-00002 | Abuse-A-Bug
050221-00001 | Liquefied Chlorine Gas Under Pressure
050400-00001 | Liquefied Chlorine Gas Under Pressure
050414-00002 | Tomlyn Daily Protection
050414-00004 | Tomyln Flea, Tick and Lice Shampoo
050414-00005 | Tomlyn Flea, Tick &Lice Shampoo
050534-00004 | Daconil 2787 W75
050534-00023 | Bravo W-75 Agricultural Fungicide
050534-00106 | Kacodil
050534-00107 | Pickall
050534-00117 | Tuffcide 960s
050534-00218 | Tuffcide Ultrex ADG
050534-00224 | Tuffcide Xtra
050654-00002 | Insekten Killer
050654-00004 | Insectkiller Cockroach Carpet
050675-00005 | PB-Rope
051219-00005 | CWT-BB100
051517-00007 | Gargoil
051699-00001 | C-H Formula #9 Bug Killer
051699-00002 | Formula No. 15 Bug Killer
052287-00002 | Harrell's Ronstar 1.5 with Fertilizer
052287-00004 | Oftanol 660 with Plant Food
052287-00005 | 0.40% Chlorpyrifos Plus Fertilizer
053356-00002 | D-Bug-75
053824-00002 | P-7 Grain Preservative
053883-00058 | Martin's Diazinon 4e Indoor-Outdoor Insecticide
054045-00001 | Zebra Mosquito Coils
054679-00003 | Custom Chlor 200
054705-00003 | Fungi-Fighter Systemic Fungicide
054998-00003 | Tablets
055236-00004 | 101 Blue 100 Copper Antifouling Paint
055615-00005 | Wilbro Fertilizer with Ronstar
055773-00001 | Score Roach Bait
056159-00002 | Beaphar Flea and Tick Spray
056159-00003 | Beaphar Flea and Tick Shampoo for Dogs (cats)
056159-00005 | Durham's Flea, Tick and Lice Dip
056159-00006 | Durham's General Purpose Insecticide
056212-00002 | Dmx-7 Plus Lecithin
056572-00003 | Liquid Chlor
056637-00001 | Trap-n-a-Sak
056637-00003 | Trap-n-a-Sak Bar Bait Kills Rats and Mice
056637-00004 | Trap-n-a-Sak II Kills Rats and Mice
056986-00001 | Insect Repellent Patio Candle
057538-00007 | Top Cop Tri-Basic Flowable Fungicide/Bactericide
057787-00013 | Combat
057966-00001 | Chlorine
058199-00006 | Jump Plant Regulator
058401-00012 | Stellar One Inch Tablet
058401-00014 | Stellar 90 Granular
058501-00001 | Confront Weed Stick
058841-00001 | Mosquito Shield
059732-00001 | Liquified Chlorine Gas Under Pressure
059790-00001 | El Matador
061219-20001 | Sodium Hypochlorite
061602-00001 | Laroche Chlorine
061616-00001 | Liquified Chlorine Gas Under Pressure
061842-00001 | Or-Cal Sectagon II
061842-00002 | Sectagon
061842-00003 | Pole Life
061842-00005 | Or-Cal Metam-S.A.U.
062012-00001 | Mr. Christal's Kills Fleas
062563-00002 | Blue Ridge Bleach
062563-00003 | Time Saver Bleach
062563-00005 | Linco Bleach
062563-00006 | SX-3 Liquid Bactericide
062719-00230 | Grandstand
063015-00001 | Liquified Chlorine Gas Under Pressure
063281-00003 | Povidone Iodine, USP Solution
063281-00004 | MTR Phenolic Germicidal Cleaner
063281-00009 | BC II Phenolic
063569-00001 | Epco-Tek 2000
063823-00035 | Stick-Up Roach Trap
064005-00004 | Itek-5 Water Purification Resin
064350-00002 | W-60-3
064439-00002 | Gopher-Med
064864-00037 | Last-Bite Snail and Slug Killer Meal
064864-00044 | Thiabendazole Citrus Fungicide Concentrate
064864-00049 | Pacrite Clean San
065560-00001 | Chlorine
065560-00003 | Sodium Hypochlorite 10%
065560-20001 | Sodium Hypochlorite 12.5%
065897-00001 | Swepr Klorpik-Sr Fume
065987-00002 | 911 Home Exterminator
066301-00001 | UBIX Animal Wash or Spray
066352-00002 | Garlic Barrier AG
066736-00001 | Ciba Seeds B. Thuringiensis S. K. European Corn Borer C
067003-00021 | Calcium Hypochlorite Granular
067003-00022 | Calcium Hypochlorite
067066-00001 | EFFAC
067279-00001 | Sodium Hypochlorite Solution
067279-00002 | Chemply Chlorine Liquified Gas Under Pressure
067425-00001 | Ant &Roach Killer
067425-00003 | Ecopco G Granular Insecticide
067425-00006 | Eco Safe(tm) Broad Spectrum Insecticide
067425-00012 | Ecopco EC Emulsifiable Concentrate
067544-20001 | Spar Chlor
067553-00001 | Liquified Chlorine Gas Under Pressure
067572-00003 | R &M Permethrin 10% E.C.
067572-00004 | R &M Aqueous Residual Flea &Tick Spray #3
067572-00006 | R &M Flea &Tick Spray #11
067572-00007 | R &M Flea and Tick Shampoo #11
067572-00015 | R &M Aqueous Flea &Tick Spray #13
067572-00018 | R &M Aqueous Residual Flea &Tick Spray #1
067572-00019 | R &M Hamster &Gerbil Spray
067572-00021 | R &M Flea &Tick Shampoo #15
067572-00022 | R &M Flea &Tick Shampoo #16
067572-00029 | R &M Flea &Tick Spray #12
067572-00033 | R &M Flea and Tick Dip #11
067572-00034 | R &M Flea and Tick Dip #12
067572-00056 | CP Snail &Bug Bait
067572-00057 | CP Cage and Aviary Spray
067760-00037 | Parathion 4 EC.
067959-00001 | Trifluralin Technical
068150-00001 | Maltchlor
068329-00020 | Alpha 416
068338-00003 | Sodium Hypochlorite 16%
068338-00006 | North Bright Bleach
068543-00007 | Bengal Roach &Ant Spray
068543-00011 | Bengal Water-Based Wasp &Hornet Killer
068826-00001 | Cal Crop USA Envirepel
068826-00002 | Cal Crop USA Nutripel
069217-00001 | Prevent
069421-00102 | Irrigate
069607-00001 | Double Duty Flea &Tick Collar for Dogs
069735-20001 | Wilclor - 2
069897-00001 | Microfree Brand B 507
069897-00002 | Microfree Brand B 240
069900-00001 | Outsmart
069979-00001 | Acid-Anionic Sanitizer Cleaner
070051-00008 | Neemguard
070051-00024 | Azatin Technical
070051-00050 | Able Biological Insecticide
070051-00058 | Thuricide - 64LV Plus
070051-00059 | Thuricide 64 LV
070051-00071 | Teknar Hp-B Larvicide
070126-00002 | Organic Resources Crawling Insect Killer
070271-00005 | Sparkle Brite
070271-00006 | Lasso Pine Aroma Disinfectant
070271-00007 | Pure Bright Institutional Sanitizer
070271-00009 | Pure Bright Industrial Sanitizer/disinfectant
070271-00011 | Pure Bright Liquid Chlorinator
070271-00014 | Clo White Bleach
070395-00001 | Gone Insect Repelling Wristband
070810-00002 | Auxigro Manufacturing Use Product
070810-00007 | Corngard
070810-00009 | Mycotrol 22WP
070907-00002 | Regatta 4E Chlorpyrifos Professional Insecticide
070907-00009 | Regatta 50W Chlorpyrifos Professionalinsecticide
071207-00001 | Chlorine Liquified Gas Under Pressure
071207-20001 | Sodium Hypochlorite Solution (end-Use Product)
071207-20007 | Sodium Hypochlorite Solution (manufacturing Use)
071227-00002 | Zeomic Type AJ10N Silver Zeolite A
071227-00003 | Zeomic Type AJ10N Silver Zeolite A
071683-00001 | Exile Herbicide Technical
071711-00009 | Flutolanil Technical
071711-00010 | Moncut 50WP
071711-00011 | Moncut 50WP
071711-00012 | Moncut 70WP (for Use on Rice)
071768-00001 | Bear Pause Attack Deterrent
071817-00001 | Brightwater Disinfectant
071829-00001 | One Drop Anti-Flea and Tick Treatment
071946-00001 | Sharp-Shield
072025-00001 | Registered Rabbit Repellent
072190-00001 | 5-Chloro-2-(2,4-Dichlorophenoxy)phenol Polymer Additive
072437-00001 | Stellar 85 Tabs
072437-00002 | Stellar 80 Tabs
072437-00003 | Stellar 95 Tabs
072439-00001 | IPEX 200
072439-00002 | IPEX 1000
072439-00003 | IPEX 400
072451-00001 | MSTRS ECB
072451-00004 | MSTRS BHFW-2
072581-20004 | Low Temp Sanitizer
072594-00002 | Dyna-Gro Root-Gel
072639-00002 | LT Biosyn, Inc. 1-Naphthaleneacetic Acid Technical
072679-00001 | Copper Paint No.5 Green
072679-00003 | Copper Paint No.3 Red
072738-20001 | Sunscape
072738-20002 | Patterson West Sunscape
072738-20004 | Patterson West Blue Ribbon
073049-00007 | Promalin II Plant Growth Regulator Solution
073748-00002 | Kattleguard “plus”
073825-00003 | Ecozap Granular Insecticide
073825-00004 | Ecozap Carpet Powder
074180-00001 | Super IQ Insecticide Coating-APT
074180-00002 | Super IQ Insecticide Coating-LC

IV. Public Docket

Complete lists of registrations canceled for non-payment of the maintenance fee will also be available for reference during normal business hours in the OPP Public Docket, Room 119, Crystal Mall #2, 1921 Jefferson Davis Highway South, Arlington VA, and at each EPA Regional Office. Product-specific status inquiries may be made by telephone by calling toll-free 1-800-444-7255.

List of Subjects

Environmental protection, Fees.

Dated: July 25, 2002.
Marcia E. Mulkey,
Director, Office of Pesticide Programs.

[FR Doc. 02-19982 Filed 8-6-02; 8:45 a.m.]

BILLING CODE 6560-50-S